DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Executive-led Business Development Trade Mission to Kenya with optional (Gold Key) stop in Tanzania, March 28-30, 2023. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

• ITA seeks to ensure that the trade mission represents a diverse swathe of U.S. businesses seeking to export. Considerations when reviewing applications will include: size of the company represented; volume and/or value of the company's current exports.

Balance of company size and location may also be considered during the review process. Referrals from a political party or partisan political group or any information, including on the application, containing references to political contributions or other partisan political activities will be excluded from the application and will not be considered during the selection process. The sender will be notified of these exclusions. Companies will be selected on a rolling basis, with priority given to those that apply and pay earlier.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Important Note About the COVID-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previously selected applicants with the option to opt-in to the new virtual program.

Mission List: (additional information about trade missions can be found at https://www.trade.gov/trade-missions).

Executive-Led Business Development Trade Mission to Kenya With Optional (Gold Key) Stop in Tanzania, March 28-30, 2023

Summary

The United States Department of Commerce, International Trade Administration (ITA), is organizing an Executive-led Business Development Trade Mission to Kenya with optional (Gold Key) stop in Tanzania, March 28-30, 2023. The mission is designed to coincide with ITA-supported American Chamber of Commerce (AmCham) Kenya's Regional Summit (Summit) that brings together sister chambers from other East African Community (EAC) member countries (Burundi, the Democratic Republic of Congo, Rwanda, South Sudan, Tanzania, and Uganda). The target participants will be businesses in the healthcare, information communication technology, and infrastructure sectors.

Recruitment and consideration will be extended to all export-ready companies that meet the established criteria for participation in the mission.

The mission will begin in Nairobi, Kenya where delegates will participate in pre-arranged business-to-government (B2G) and business-to-business (B2B) meetings to directly present their products and solutions to key Government of Kenya (GOK) ministries and parastatals that have projects in the selected priority sectors. Following these meetings, interested companies may choose to take part in the AmCham Kenya Regional Summit, themed “Economic Dynamism: Transformation for the Future.” This Summit, independently organized by AmCham, will accord U.S. businesses with opportunities to gain exposure to government and business leaders from markets across East Africa. In addition to the two-part program in Kenya, interested companies can select an additional optional spin-off for tailored B2G and business meetings in Tanzania before or after the Kenyan program.

Proposed Timetable

* Note: The final schedule and potential site visits will depend on the availability of host government and business officials, specific goals of mission participants, and ground transportation.

Sunday, March 26

(OPTIONAL) Arrive in Dar es Salaam, Tanzania

Monday, March 27

Optional Gold Keys

• Depart for Nairobi (evening flight)

Tuesday, March 28

• U.S. Embassy Briefing

• Trade Mission B2G/B2B Meetings

• Official Reception at Ambassador's Residence

Wednesday-Thursday, March 29-30

• AmCham Summit 2023

• Panel Sessions

• Industry breakouts

• B2B Summit Meetings

• Summit Reception

• (OPTIONAL) Take evening flight to Dar es Salaam

Friday-March 31

• Optional Gold Keys

Participation Requirements

All parties interested in participating in the Executive-led Business Development Trade Mission to Kenya must complete and submit an application package for consideration by the Department of Commerce. All applicants will be evaluated on their ability to meet certain conditions and satisfy the selection criteria as outlined below. A minimum of twelve and maximum of fifteen firms and/or trade associations will be selected to participate in the mission from the applicant pool.

Fees and Expenses

After a firm or trade association has been selected to participate on the mission, a payment to the Department of Commerce in the form of a participation fee is required. The participation fee for Executive-led Business Development Trade Mission to Kenya will be $2,400 for small or medium-sized enterprises (SME) and $3,500 for large firms or trade associations.¹ The fee for each additional firm representative (large firm or SME/trade organization) is $500. Fees for optional spinoff to Tanzania will follow the Gold Key Service fee structure at an additional $950 per small, $2,300 per medium, and $3,400 per large firm and trade association/organization. Participants wishing to participate in the AmCham Summit will be required to purchase tickets directly from the American Chamber of Commerce Kenya. VIP tickets are $500, with a standard ticket option costing $300, or Early Bird tickets for $250. Expenses for travel, lodging, meals, and incidentals will be the responsibility of each mission participant. Interpreter and driver services can be arranged for additional cost. Delegation members will be able to take advantage of U.S. Embassy rates for hotel rooms.

¹ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

If an applicant is selected to participate on a particular mission, a payment to the Department of Commerce in the amount of the designated participation fee is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register, posting on the Department of Commerce trade mission calendar (http://export.gov/trademissions) and other internet websites, press releases to general and trade media, direct mail, notices by industry trade associations and other multiplier groups, and publicity at industry meetings, symposia, conferences, and trade shows. Recruitment for the mission will conclude on January 27, 2023. The Department of Commerce will review applications on a rolling basis and inform applicants of selection decisions on a comparative basis. Applications received after January 27, 2023, will be considered only if space and scheduling constraints permit.

Contacts

Larry Tabash (Recruitment Lead), Global Team Lead, Middle East & Africa, +1 512-936-0039, Larry.Tabash@trade.gov

Deb Carey (Project Lead), International Trade Specialist, +1 202-830-5545, Deborah.Carey@trade.gov

U.S. & Foreign Commercial Service—Nairobi Team

Leone Mutoka, Commercial Assistant, +254-20-363-6438, Leone.Mutoka@trade.gov

Judy Magondu, Commercial Assistant, +254 (20) 363-6400, Judy.Magondu@trade.gov

Josh Startup, Commercial Officer, +254-20-363-6000 ext. 6424, Joshua.Startup@trade.gov

Feleke Assefa, Senior Commercial Officer, +254-20-363-6000 ext. 6424, Feleke.Assefa@trade.gov

U.S. & Foreign Commercial Service—Dar es Salaam Team

Ken Walsh, Senior Commercial Officer, +255-22-229-4243, Ken.walsh@trade.gov

Athanas Lupatu, Commercial Specialist, +255-22-229-4341, Athanasius.lupatu@trade.gov

Gemal Brangman,
Director, ITA Events Management Task Force.

[FR Doc. 2023-00114 Filed 1-6-23; 8:45 am]

BILLING CODE 3510-DR-P